DEPARTMENT OF THE INTERIOR

National Park Service

Denali National Park Subsistence Resource Commission; Meeting

AGENCY: National Park Service, Interior.

ACTION: Announcement of Subsistence Resource Commission meeting.

SUMMARY: The Superintendent of Denali National Park and Preserve and the Chairperson of the Denali Subsistence Resource Commission announce a forthcoming meeting of the Subsistence Resource Commission for Denali National Park and Preserve. The following agenda items will be discussed:

(1) Call to order.

(2) Roll call—Confirm Quorum.

(3) Welcome and introductions.

(4) Approval of last meeting minutes.

(5) Additions and corrections to agenda.

(6) Business:

(a) Proposed Federal Subsistence Wildlife Regulations for 2000-2001.

(b) Proposed Federal Subsistence Fisheries Projects for 2000.

(c) SRC Chairs Workshop Report.

(7) Public and other agency comments.

(8) Set time and place of next SRC meeting.

(9) Adjournment.

DATES: The meeting will begin at 9 a.m. on Monday, February 14th, 2000 and conclude around 5 p.m.

LOCATION: The meeting will be held at the North Star Inn, Healy, Alaska.

FOR FURTHER INFORMATION CONTACT: Hollis Twitchell, Subsistence and Cultural Branch, P.O. Box 9, Denali Park, Alaska 99755, Phone (907) 683-9544 or (907) 456-0595.

SUPPLEMENTARY INFORMATION: The Subsistence Resource Commissions are authorized under title VIII, section 808, of the Alaska National Interest Lands Conservation Act, Pub. L. 96-487, and operates in accordance with the provisions of the Federal Advisory Committees Act. Note that under the Freedom of Information Act (FOIA), transcripts of any person giving public comments may be made available under a FOIA request.

Paul Anderson,
Deputy Regional Director.

[FR Doc. 00-2301 Filed 2-2-00; 8:45 am]

BILLING CODE 4310-70-P